DEPARTMENT OF HEALTH AND HUMAN SERVICES

Centers for Disease Control and Prevention

NIOSH/NCI Joint Study Meeting

The National Institute for Occupational Safety and Health (NIOSH), and the National Institutes of Health, National Cancer Institute (NCI), announce the following meeting:

Name: Stakeholder informational meeting on the joint NIOSH/NCI study entitled, “A Cohort Mortality Study with a Nested Case-Control Study of Lung Cancer and Diesel Exhaust among Non-metal Miners.”

Time and Date: 9 a.m.-12 noon, Wednesday, November 5, 2003.

Place: Room 705A, Hubert Humphrey Building, 200 Independence Avenue, SW., Washington, DC 20201.

Status: Open to the public, limited only by space available. The meeting room accommodates up to 50 people.

Purpose: To provide an overview of progress of the study, and to exchange information among government, stakeholders, and other interested parties.

Matters To Be Discussed: The agenda will include a short summary of the background of the NIOSH/NCI study, and reviews of progress on the different components of the study. Viewpoints and suggestions from industry, labor, academia, other government agencies, and the public are invited. Written comments will also be considered.

Contact Person for More Information: Michael Attfield, Ph.D., NIOSH Project Director, Division of Respiratory Disease Studies, M/S 234, 1095 Willowdale Road, Morgantown, West Virginia 26505-2888, telephone 304/285-5737, e-mail MDA1@CDC.GOV.

The Director, Management Analysis and Services Office, has been delegated the authority to sign Federal Register notices pertaining to announcements of meetings and other committee management activities for both the CDC and ATSDR.

Dated: September 30, 2003.
Alvin Hall,
Director, Management Analysis and Services Office, Centers for Disease Control and Prevention.

[FR Doc. 03-25233 Filed 10-3-03; 8:45 am]

BILLING CODE 4163-19-P